DEPARTMENT OF STATE

[Public Notice 7960]

30-Day Notice of Proposed Information Collection: DS 7655, Iraqi Citizens and Nationals Employed by Federal Contractors and Grantees

ACTION: Notice of request for public comment and submission to OMB of proposed collection of information.

SUMMARY: The Department of State has submitted the following information collection request to the Office of Management and Budget (OMB) for approval in accordance with the Paperwork Reduction Act of 1995.

• Title of Information Collection: Iraqi Citizens and Nationals Employed by Federal Contractors, Grantees and Cooperative Agreement Partners.

• OMB Control Number: 1405-0184.

• Type of Request: Extension of an Approved Collection.

• Originating Office: PRM/A.

• Form Number: DS 7655.

• Respondents: Federal Contractors, grantees, and cooperative agreement partners of the Department of State.

• Estimated Number of Respondents: 50.

• Estimated Number of Responses: 200.

• Average Hours per Response: .5.

• Total Estimated Burden: 100 hours.

• Frequency: On occasion.

• Obligation to Respond: Mandatory.

DATES: Submit comments to the Office of Management and Budget (OMB) for up to 30 days from July 24, 2012.

ADDRESSES: You may submit comments by any of the following methods:

• Web: Persons with access to the Internet may view and comment on this notice by going to the Federal regulations Web site at www.regulations.gov. You can search for the document by: Selecting “Notice” under Document Type, entering the Public Notice number as the “Keyword or ID”, checking the “Open for Comment” box, and then click “Search”. If necessary, use the “Narrow by Agency” option on the Results page.

• Email: HawleyCV@state.gov.

• Mail (paper, or CD submissions): DOS/PRM, Office of Admissions, 2025 E Street NW., Washington, DC 20522-0908.

You must include the DS form number (if applicable), information collection title, and OMB control number in any correspondence.

FOR FURTHER INFORMATION CONTACT: Direct requests for additional information regarding the collection listed in this notice, including requests for copies of the proposed information collection and supporting documents, to Charles Hawley, who may be reached on 202-453-9249 or at HawleyCV@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection: The National Defense Authorization Act (NDAA) of 2008 became Public Law 110-181 on 28 January 2008. Section 1248(c)—“Report on Iraqi Citizens and Nationals Employed by the United States Government or Federal Contractors in Iraq”—of this Act requires the Secretary of State to request from each prime contractor or grantee that has performed work in Iraq for the Department of State since March 20, 2003, under a contract, grant, or cooperative agreement with their respective agencies that is valued in excess of $25,000, information that can be used to verify the employment of Iraqi nationals by such contractor or grantee. To the extent possible, biographical information, to include employee name, date(s) of employment, biometric, and other data must be collected and used to verify employment for the processing and adjudication of refugee, asylum, special immigrant visa, and other immigration claims and applications.

Methodology:

The Department of State will collect the information via electronic submission.

Additional Information:

This information collection will be used to fulfill the requirements under Section 1248 of the National Defense Authorization Act of 2008 (Pub. L. 108-181)

Dated: July 12, 2012.
Amy B. Nelson,
Acting Director, Bureau of Population, Refugees, and Migration, Department of State.

[FR Doc. 2012-18040 Filed 7-23-12; 8:45 am]

BILLING CODE 4710-33-P